DEPARTMENT OF THE INTERIOR

Fish and Wildlife Service

Notice of Availability of a Final Environmental Impact Report/Environmental Impact Statement for the Coachella Valley Multiple Species Habitat Conservation Plan and Natural Community Conservation Plan, Riverside County, CA

AGENCY: Fish and Wildlife Service, Interior.

ACTION: Notice of availability.

SUMMARY: This notice announces the availability of the final Coachella Valley Association of Governments Habitat Conservation Plan and Natural Community Conservation Plan (Plan), final Implementing Agreement, and final Environmental Impact Statement/Environmental Impact Report (EIS/EIR) for public review and comment. The Fish and Wildlife Service (Service) is considering the proposed action of issuing a 75-year incidental take permit, pursuant to section 10(a)(1)(B) of the Endangered Species Act of 1973 as amended (ESA), for 27 species in response to receipt of an application from the Coachella Valley Association of Governments (CVAG), Coachella Valley Conservation Commission, County of Riverside, Riverside County Flood Control and Water Conservation District, Riverside County Parks and Open Space District, Riverside County Waste Management District, Coachella Valley Water District, Imperial Irrigation District, California Department of Transportation, California Department of Parks and Recreation, Coachella Valley Mountains Conservancy, and the cities of Cathedral City, Coachella, Desert Hot Springs, Indian Wells, Indio, La Quinta, Palm Desert, Palm Springs, and Rancho Mirage (Applicants). The proposed permit would authorize take of individual members of animal species listed under the Federal Endangered Species Act of 1973, as amended (ESA). The permit is needed because take of species could occur during proposed urban development activities, rural infrastructure projects, and preserve management activities within a 1.1 million-acre planning area located in the Coachella Valley, California.

The Final Plan also incorporates a Public Use and Trails Plan which includes proposals that address non-motorized recreation activities on Federal and non-Federal lands in the Santa Rosa and San Jacinto Mountains. The Bureau of Land Management (BLM) is a Cooperating Agency in this planning process and will use this EIR/EIS to make decisions on BLM-administered public lands pertaining to trail use in the Santa Rosa and San Jacinto Mountains. These proposals constitute activity (implementation) level actions in furtherance of the California Desert Conservation Area Plan (1980), as amended, and the Santa Rosa and San Jacinto Mountains National Monument Management Plan (2004). The BLM will issue a separate record of decision regarding non-motorized recreation activities on public lands.

DATES: The 30-day waiting period will end on May 22, 2006. Written comments must be received on or before this date.

ADDRESSES: Comments should be sent to Mr. James Bartel, Field Supervisor, Fish and Wildlife Service, Carlsbad Fish and Wildlife Office, 6010 Hidden Valley Road, Carlsbad, California 92011; facsimile (760) 431-9624.

FOR FURTHER INFORMATION CONTACT: (1) Jim Sullivan, Director of Environmental Resources, CVAG, 73710 Fred Waring Drive, Room 119, Palm Desert, CA 92260, (760) 346-1127; or, (2) Ms. Therese O'Rourke, Assistant Field Supervisor, 6010 Hidden Valley Road, Carlsbad, California 92011, (760) 431-9440.

SUPPLEMENTARY INFORMATION:

Availability of Documents

Copies of the Plan, Implementation Agreement, and Final EIR/EIS are available for public review, by appointment, during regular business hours, at the Carlsbad Fish and Wildlife Office and at the CVAG office (see FOR FURTHER INFORMATION CONTACT).

The documents can also be viewed on the World Wide Web at http://www.cvmshcp.org. Copies are also available for viewing in each of the Applicant cities, in public libraries, the Riverside County Planning Departments, as follows:

(1) Riverside County Planning Department: 4080 Lemon Street, 9th Floor Riverside, California 92502.

(2) Riverside County Planning: 82675 Hwy 111, Room 209, Indio, California 92201.

(3) U.S. Bureau of Land Management: 690 Garnet Avenue, North Palm Springs, California 92258.

(4) City of Palm Springs: 3200 E. Tahquitz Canyon Way, Palm Springs, California 92262.

(5) City of Cathedral City: 68-700 Avenida Lalo Guerrero, Cathedral City, California 92234.

(6) City of La Quinta: 78-495 Calle Tampico, La Quinta, California 92253.

(7) City of Rancho Mirage: 69825 Highway 111, Rancho Mirage, California 92270.

(8) City of Palm Desert: 73-510 Fred Waring Drive, Palm Desert, California 92260.

(9) City of Indio: 100 Civic Center Mall, Indio, California 92201.

(10) City of Indian Wells: 44950 El Dorado Drive, Indian Wells, California 92210.

(11) City of Coachella: 1515 Sixth Street, Coachella, California 92236.

(12) City of Desert Hot Springs: 65950 Pierson Boulevard, Desert Hot Springs, California 92240.

(13) Cathedral City Public Library: 33520 Date Palm Drive, Cathedral City, California 92234.

(14) Coachella Branch Library: 1538 7th Street, Coachella Valley, California 92260.

(15) Desert Hot Springs Public Library: 1691 West Drive, Desert Hot Springs, California 92240.

(16) Indio Public Library: 200 Civic Center Mall, Indio, California 92201.

(17) Lake Tamarisk Branch Library: Lake Tamarisk Drive, Desert Center, California 92239.

(18) La Quinta Public Library: 78080 Calle Estado, La Quinta, California 92253.

(19) Mecca-North Shore Branch Library: 65250 Cahuilla, Mecca, California 92254.

(20) Palm Springs City Library: 300 South Sunrise Way, Palm Springs, California 92262.

(21) Rancho Mirage Public Library: 42-520 Bob Hope Drive, Rancho Mirage, California 92270.

(22) Riverside County Library: Palm Desert Branch, 73-300 Fred Waring Drive Palm Desert, California 92260.

(23) Thousand Palms Library: 72-715 La Canada Way, Thousand Palms, California 92276.

Background Information

Section 9 of the Federal ESA of 1973, as amended and Federal regulations prohibit the take of fish and wildlife species listed as endangered or threatened (16 U.S.C. 1538). The term “take” means to harass, harm, pursue, hunt, shoot, wound, kill, trap, capture, or collect, or to attempt to engage in any such conduct (16 U.S.C. 1532). Harm includes significant habitat modification or degradation that actually kills or injures listed wildlife by significantly impairing essential behavioral patterns, including breeding, feeding, and sheltering [50 CFR 17.3(c)]. Under limited circumstances, the Service may issue permits to authorize incidental take of listed fish or wildlife; i.e., take that is incidental to, and not the purpose of, otherwise lawful activity. Regulations governing incidental take permits for threatened and endangered species are found in 50 CFR 17.32 and 17.22, respectively.

Although take of listed plant species is not prohibited under the Federal ESA, and therefore cannot be authorized under an incidental take permit, plant species may be included on a permit in recognition of the conservation benefits provided to them under a habitat conservation plan. All species included on an incidental take permit would receive assurances under the Services “No Surprises” regulation 50 CFR 17.22(b)(5) and 17.32(b)(5).

The Service has received an application for an incidental take permit for implementation of the Plan. The application was prepared and submitted by the CVAG on behalf of all the Applicants: Riverside County; the cities of Cathedral City, Coachella, Desert Hot Springs, Indian Wells, Indio, La Quinta, Palm Desert, Palm Springs, Rancho Mirage; California Department of Transportation, California Department of Parks and Recreation, Coachella Valley Association of Governments, Coachella Valley Conservation Commission, Coachella Valley Mountains Conservancy, Coachella Valley Water District, Imperial Irrigation District, Riverside County Flood Control and Water Conservation District, Riverside County Regional Parks and Open Space District, and Riverside County Waste Management Department. The CVAG prepared the Plan to satisfy the application requirements for a section 10(a)(1)(B) permit under the Federal ESA, of 1973, as amended, and a section 2835 permit under the California Natural Community Conservation Planning Act of 2002 (NCCPA). Thus, the Plan constitutes a Habitat Conservation Plan pursuant to the Federal ESA, and a Natural Community Conservation Plan pursuant to the California NCCPA.

The CVAG seeks a 75-year incidental take permit for covered activities within a proposed 1.1 million-acre planning area, located entirely in eastern Riverside County, California. CVAG has requested a permit for 27 species, 10 of which are currently listed as threatened or endangered under the Federal ESA. Of these 27 species, CVAG requests a permit and assurances for 22 animal species and assurances for 5 plant species.

Proposed covered species include 6 wildlife species currently listed as endangered under the Federal ESA [Desert pupfish (Cyprinodon macularis), Arroyo toad (Bufo californicus), Yuma Clapper Rail (Rallus longirostris yumanensis), Southwestern willow flycatcher (Empidonax traillii extimus), Least Bell's vireo (Vireo bellii pusillus), Peninsular bighorn sheep (Ovis canadensis nelsoni)], 2 plant species currently listed as endangered under the Federal ESA [Coachella Valley milk-vetch (Astragalus lentiginosus var. coachellae), and Triple-ribbed milkvetch (Astragalus tricarinatus)], and 2 wildlife species currently listed as threatened under the Federal ESA [Desert Tortoise (Gopherus agassizii) and, Coachella Valley fringe-toed lizard (Uma inornata)]. Proposed covered species also include 15 wildlife species and 3 plant species that are not listed under the Federal ESA at the current time.

If the proposed Plan is approved and the permit issued, take authorization of covered listed wildlife species would be effective at the time of permit issuance. Take of the currently non-listed covered wildlife species would be authorized concurrent with the species' listing under the Federal ESA, should they be listed during the duration of the permit.

The Plan is intended to be a comprehensive and multi-jurisdictional document, providing for regional species conservation and habitat planning, while allowing the prospective Permittees to better manage anticipated growth and development. The Plan also is intended to provide a coordinated process for permitting and mitigating the take of covered species as an alternative to the current project-by-project approach.

If the Plan is approved, the Local Permittees would review development applications for compliance with the terms of the Plan. Take authorization would be issued to these parties by the Local Permittees if the project is consistent with the Plan. As part of the standard development review process, projects would typically require separate environmental review under the California Environmental Quality Act and, in some cases, the National Environmental Policy Act. In addition, the permit will provide incidental take authorization for public projects, operations and maintenance activities, management and monitoring activities in the Plan area by Permittees.

An Implementing Entity, called the Coachella Valley Conservation Commission (CVCC), would be responsible for conducting broad conservation and management measures, such as acquiring and maintaining preserve land, restoring and enhancing habitat, tracking the success of the conservation strategy, and instituting any necessary changes. Projects conducted by the CVCC would be consistent with the Plan and receive coverage for take.

In order to comply with the requirements of the Federal ESA, California ESA, and the California NCCPA, the proposed Plan addresses a number of required elements, including: Species and habitat goals and objectives; evaluation of the effects of covered activities on covered species, including indirect and cumulative effects; a conservation strategy; a monitoring and adaptive management program; descriptions of changed circumstances and remedial measures; identification of funding sources; and an assessment of alternatives to take of listed species.

Covered Activities would include public and private development within the plan area that requires certain ministerial and discretionary actions by an Applicant subject to consistency with the Plan policies, regional transportation facilities, maintenance of and safety improvements on existing roads, the Circulation Elements of the Applicants, maintenance and construction of flood control facilities, and compatible uses in the reserve. The Plan makes a provision for the inclusion of special districts and other non-Applicant entities in the permit with a certificate of inclusion.

The Plan includes measures to avoid and minimize incidental take of the Covered Species, emphasizing project design modifications to protect both habitats and species' individuals. A monitoring and reporting plan would gauge the Plan's success based on achievement of biological goals and objectives and would ensure that conservation keeps pace with development. The Plan also includes a management program, including adaptive management, which allows for changes in the conservation program if the biological species objectives are not met, or new information becomes available to improve the efficacy of the Plan's conservation strategy.

The Plan identifies the proposed reserve system, which will be established from lands within 21 conservation areas that are either adjacent or linked by biological corridors. The acquisition program for the reserve system is anticipated to occur over the first 30 years of the life of the permit. When completed, the reserve system will include core habitat for Covered Species, essential ecological processes, and biological corridors and linkages to provide for the conservation of the proposed Covered Species.

The Public Use and Trails Plan element of the Plan provides for coordinated management of trails on public lands involving members of the public, local jurisdictions, and State and other Federal agencies.

On November 5, 2004, the Service published a notice in the Federal Register (69 FR 64581) announcing receipt of an application for an incidental take permit from CVAG, Riverside County, the 9 cities and the other Applicants, and the availability of a Draft EIR/EIS for the application. The Draft EIR/EIS analyzed the potential environmental impacts that may result from the Federal action of authorizing incidental take anticipated to occur with implementation of the Plan, and identified various alternatives. We received a total of 310 comment letters on the Draft EIR/EIS. A response to each comment received in these letters has been included in Final EIR/EIS.

Alternatives

The Draft EIS/EIR considered five alternatives in addition to the proposed project described above including: An alternative that would not include the City of Palm Springs; an alternative that includes all existing local, State, and Federal agency land and private conservation land with additional management prescriptions; an alternative that protects core habitat, ecological processes, and biological corridors with less land than the proposed project alternative; an expanded conservation alternative; and a no project alternative.

The proposed project alternative without the City of Palm Springs would have remained the same as the proposed project alternative; however, implementation of the Plan would be altered. The permits would have not provided incidental take authorization for any of the Covered Species under the jurisdiction of the City of Palm Springs and the mitigation fee would not be collected on land subject to the jurisdiction of the City of Palm Springs. All existing conservation lands, except those belonging to the City of Palm Springs, would continue to be part of the Plan Reserve System.

The public lands alternative includes all local, State, and Federal land, and private conservation land, in the Plan Area. The local jurisdictions would contribute to the management of the existing conservation lands as mitigation. This alternative entails no land acquisition; only core habitat, essential ecological processes, and linkages that happen to be on existing public conservation lands or private conservation lands would be protected. As a result, sand transport, watershed, and other ecological processes would not be protected.

The core habitat with ecological processes alternative would protect core habitat for the species and natural communities included in the plan, as well as ecological processes necessary to sustain these habitats. This alternative creates new preserve areas in the Snow Creek area and at the Whitewater River delta at the northwest end of the Salton Sea. Based on comments in the ISA report, comments received from California Department of Fish and Game (CDFG) and the Service, and other information, this alternative was subsequently revised to develop the proposed project alternative.

The enhanced conservation alternative expanded on the public lands alternative by including all additional areas that were recommended for further consideration by the Service and CDFG. This alternative would result in less impact than the proposed project alternative and increased the number of acres to be conserved by approximately 10,200 acres. Much of the area anticipated for conservation under this alternative would cause significant land use conflicts and increased costs.

The No Project alternative entails no plan being developed and no permits issued. Individual projects would have to seek their own incidental take permits or avoid take by not developing portions of the project site that would result in take of a listed species. This alternative would preclude impacts to listed species from activities covered under the plan; however, conservation of species and habitats provided through mitigation and compensation under the existing regulatory framework could result in a pattern of conservation that is fragmented and managed in a piecemeal fashion.

National Environmental Policy Act

Proposed permit issuance triggers the need for compliance with the National Environmental Policy Act (NEPA) and the California Environmental Quality Act (CEQA). Accordingly, a joint NEPA/CEQA document has been prepared. The Service is the Lead Agency responsible for compliance under NEPA and the BLM is a Cooperating Agency, and CVAG is the Lead Agency with responsibility for compliance with CEQA. As NEPA lead agency, the Service is providing notice of the availability of the final EIS/EIR and is making available for public review the responses to comments on the Draft EIS/EIR.

Public Review

The Service and CVAG invite the public to review the Final Plan, Final EIR/EIS, and Final Implementing Agreement during a 30-day waiting period [see DATES]. Any comments received, including names and addresses, will become part of the administrative record and may be made available to the public.

The Service will evaluate the application, associated documents, and comments submitted to them to prepare a Record of Decision. A permit decision will be made no sooner than 30 days after the publication of the Final EIR/EIS and completion of the Record of Decision.

This notice is provided pursuant to section 10(a) of the Federal ESA and Service regulations for implementing NEPA, as amended (40 CFR 1506.6). We provide this notice in order to allow the public, agencies, or other organizations to review these documents.

Dated: April 7, 2006.
Alexandra Pitts,
Acting Deputy Manager, California/Nevada Operations Office, Sacramento, California.

[FR Doc. E6-5990 Filed 4-20-06; 8:45 am]

BILLING CODE 4310-55-P